DEPARTMENT OF HEALTH AND HUMAN SERVICES

National Institutes of Health

Office of the Secretary; Notice of Meeting

Pursuant to section 10(a) of the Federal Advisory Committee Act, as amended, notice is hereby given of a meeting of the Interagency Pain Research Coordinating Committee.

The meeting will be open to the public, with attendance limited to space available. Individuals who plan to attend and need special assistance, such as sign language interpretation or other reasonable accommodations, should notify the Contact Person listed below in advance of the meeting.

Name of Committee: Interagency Pain Research Coordinating Committee.

Date: November 18, 2019.

Time: 8:30 a.m. to 5:00 p.m.

Agenda: The meeting will include discussions of committee business items including information about the NIH HEAL Initiative and an update on the Pain Management Best Practices Interagency Task Force.

Place: National Institutes of Health, Porter Neuroscience Research Center, Building 35A, Room 610, 35 Convent Drive, Bethesda, MD 20892.

Webcast Live: http://videocast.nih.gov/.

Deadlines: Submission of intent to submit written/electronic statement for comments: Monday, November 4, 2019. Submission of written/electronic statement for oral comments: Monday, November 11, 2019.

Contact Person: Linda L. Porter, Ph.D., Director, Office of Pain Policy & Planning, Office of the Director, National Institute of Neurological Disorders and Stroke, NIH, 31 Center Drive, Room 8A31, Bethesda, MD 20892, Phone: (301) 451-4460, Email: Linda.Porter@nih.gov.

Any member of the public interested in submitting written comments to the Committee must notify the Contact Person listed on this notice by 5:00 p.m. ET on Monday, November 4, 2019, with their request. Interested individuals and representatives of organizations must submit a written/electronic copy of the oral statement/comments including a brief description of the organization represented by 5:00 p.m. ET on Monday, November 11, 2019. Statements submitted will be shared with the committee members and become a part of the public record.

The meeting will be open to the public and accessible by live Webcast (videocast.nih.gov). Individuals who participate in person or by using these electronic services and who need special assistance, such as captioning or other reasonable accommodations, should submit a request to the Contact Person listed on this notice at least seven days prior to the meeting.

In the interest of security, NIH has instituted stringent procedures for entrance onto the NIH campus. All visitor vehicles, including taxicabs, hotel, and airport shuttles will be inspected before being allowed on campus. Visitors will be asked to show one form of identification (for example, a government-issued photo ID, driver's license, or passport) and to state the purpose of their visit.

Dated: October 11, 2019.
Sylvia L. Neal,
Program Analyst, Office of Federal Advisory Committee Policy.

[FR Doc. 2019-22713 Filed 10-17-19; 8:45 am]

BILLING CODE 4140-01-P